DEPARTMENT OF DEFENSE

Department of the Air Force

[Docket ID USAF-2009-0007]

Privacy Act of 1974; System of Records

AGENCY: Department of the Air Force, DoD.

ACTION: Notice to Amend a System of Records.

SUMMARY: The Department of Air Force proposes to amend a system of records to its inventory of record systems subject to the Privacy Act of 1974 (5 U.S.C. 552a), as amended.

DATES: The changes will be effective on February 23, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-6488.

SUPPLEMENTARY INFORMATION: The Department of the Air Force systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: January 13, 2009.
Morgan E. Frazier,
Alternate OSD Federal Register Liaison Officer, Department of Defense.

F036 AF A

System name:

Biographical Data and Automated Personnel Management System (November 18, 2004, 69 FR 67550)

Changes:

* * * * *

Categories of individuals covered by the system:

Delete entry and replace with “Active duty Air Force military, Air Force Reserve and Air National Guard personnel. Air Force civilian employees and contractors, Army, Navy, and Marine Corps Active duty military and civilian personnel may be included when assigned to combatant commands for which Air Force is the Executive Agent. Records may be maintained in this system on personnel in a Temporary Duty (TDY) status for the duration of the TDY.”

* * * * *

System manager(s) and address:

Delete entry and replace with “Department of Air Force, Air Force Research Laboratory, Phillips Research Site, Information Requirements, AFRL/RVIR; 3550 Aberdeen Ave., SE. Kirtland AFB, NM.”

Notification procedure:

Delete entry and replace with “Individuals seeking to determine whether information about themselves is contained in this system should address inquiries to the respective unit commander or supervisor who maintains the records. Official mailing addresses are published as an appendix to the Air Force's compilation of record systems notices.

Requests should contain individual's name and Social Security Number.”

Record access procedures:

Delete entry and replace with “Individuals seeking to access records about themselves contained in this system should address requests to the respective unit commander or supervisor who maintains the records. Official mailing addresses are published as an appendix to the Air Force's compilation of record systems notices.

Requests should contain individual's name and Social Security Number (SSN).”

* * * * *

F036 AF A

System name:

Biographical Data and Automated Personnel Management System

System location:

Headquarters United States Air Force; headquarters of major commands; field operating agencies; direct reporting units; headquarters of combatant commands for which Air Force is Executive Agent, and all Air Force installations and units. Official mailing addresses are published as an appendix to the Air Force's compilation of record systems notices.

Categories of individuals covered by the system:

Active duty Air Force military, Air Force Reserve and Air National Guard personnel. Air Force civilian employees and contractors, Army, Navy, and Marine Corps Active duty military and civilian personnel may be included when assigned to combatant commands for which Air Force is the Executive Agent. Records may be maintained in this system on personnel in a Temporary Duty (TDY) status for the duration of the TDY.

Categories of records in the system:

Biographical information which may include name, rank, Social Security Number, service dates, date of birth, civilian employment, military and civilian education, military and civilian experience, program specialties, hobbies, professional expertise and appointments, membership in professional societies, civic activities, state of license, and limited medical/immunization information for personnel readiness.

Limited locator type information which may include home address, home phone, home of record and name and address of next of kin.

Records relating to assignment to include unit of assignment, authorized and assigned grade, duty title, duty Air Force Specialty Code and Military Occupation Code, position number, date assigned to organization, estimated date of departure, control tour code, assignment availability date, overseas tour start date, short tour return date, supervisor's name and date supervision began.

Performance data, i.e. date of last report and date next report due.

May also contain limited routine administrative training information consisting of application for training, name and date of course completion, and educational level, when not filed in a separate system.

Limited routine correspondence on promotions, military honors and awards, security and letters of appreciation, when not filed in a separate system.

Authority for maintenance of the system:

10 U.S.C. 8013, Secretary of the Air Force and E.O. 9397 (SSN).

Purpose(s):

This system is established as a management tool to provide commanders and supervisors with ready reference information file for managing their personnel, manpower and resources.

To assist in determining and scheduling workload requirements in support of their organization's assigned mission.

This system serves a ready reference locator and can be used to produce manpower reports.

Used to determine eligibility/suitability for assignment/reassignment; determine eligibility for retirement related action, to make determinations on discharges or mobilization, deferments, and fulfillment of local or statutory requirements.

Records maintained as a historical file while individual is assigned to the unit.

Used to answers correspondence/telephone inquiries; updating and/or changing information in computer and/or individual record.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Paper records in file folders and electronic storage media.

Retrievability:

Retrieved by name and/or Social Security Number.

Safeguards:

Records are accessed by person(s) responsible for servicing the record system in performance of their official duties and by authorized personnel who are properly screened and cleared for need to know. Records are stored in locked rooms and cabinets. Those in computer storage devices are protected by computer system software.

Retention and disposal:

Retain in office files until superseded, obsolete, no longer needed for reference, reassignment, separation or retirement of the individual or inactivation of the organization. Records on TDY personnel will be destroyed upon completion of the individual's TDY. Records are destroyed by tearing into pieces, shredding, pulping, or burning. Computer records are destroyed by erasing, deleting or overwriting.

System manager(s) and address:

Department of Air Force, Air Force Research Laboratory, Phillips Research Site, Information Requirements, AFRL/RVIR; 3550 Aberdeen Ave., SE., Kirtland AFB, NM.

Notification procedure:

Individuals seeking to determine whether information about themselves is contained in this system should address inquiries to the respective unit commander or supervisor who maintains the records. Official mailing addresses are published as an appendix to the Air Force's compilation of record systems notices.

Requests should contain individual's name and Social Security Number (SSN).

Record access procedures:

Individuals seeking to access records about themselves contained in this system should address requests to the respective unit commander or supervisor who maintains the records. Official mailing addresses are published as an appendix to the Air Force's compilation of record systems notices.

Requests should contain individual's name and Social Security Number (SSN).

Contesting record procedures:

The Air Force rules for accessing records, and for contesting contents and appealing initial agency determinations are published in Air Force Instruction 33-332; 32 CFR part 806b; or may be obtained from the system manager.

Record source categories:

The individual, personnel or training records and records created by commander/supervisor.

Exemptions claimed for the system:

None.

[FR Doc. E9-1229 Filed 1-21-09; 8:45 am]

BILLING CODE 5001-06-P